DEPARTMENT OF HEALTH AND HUMAN SERVICES

Centers for Disease Control and Prevention

[30Day-16-0604]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

The School-Associated Violent Death Surveillance System (SAVD)—Revision (OMB Control No. 0920-0604, expiration 04/30/2016)—National Center for Injury Prevention and Control (NCIPC), Centers for Disease Control and Prevention (CDC).

Background and Brief Description

School-associated violence, particularly homicides and suicides that occur in schools, has been a significant public concern for several years. Despite the important role of schools as a setting for violence research and prevention interventions, relatively little scientific or systematic work has been conducted to describe the nature and level of fatal violence associated with schools. Public health and education officials have had to rely on limited local studies and estimated numbers to describe the extent of school-associated violent death. As a result, the U.S. Department of Education (DOE) requested assistance from the Division of Violence Prevention (DVP)/National Center for Injury Prevention and Control (NCIPC) in establishing an ongoing surveillance system of school-associated violent deaths (SAVD) in the United States with the goal of tracking and monitoring the extent of this problem on an ongoing basis. The SAVD surveillance system remains the only systematic effort to document school-associated violent deaths on a national basis. Data from the SAVD surveillance system are intended to contribute to the understanding of fatal violence associated with schools, guide further research in the area, and help direct ongoing and future prevention programs.

The data collection methodology involves investigators reviewing public records and published press reports concerning each SAVD. For each identified case, investigators will interview an investigating law enforcement official and a school official who are knowledgeable about the case in question. Researchers will request information on both the victim and alleged offender(s)—including demographic data, their academic and criminal records, and their relationship to one another. They will also collect data on the time and location of the death; the circumstances, motive, and method of the fatal injury; and the security and violence prevention activities in the school and community where the death occurred, before and after the fatal injury event. Additionally, law enforcement reports on each case are obtained. The study population will include the victims and offenders from all identified events in which there was a school-associated violent death in the U.S.

The surveillance system will continue to contribute to the understanding of fatal violence associated with schools, guide further research in the area, and help direct ongoing and future prevention programs. Data collected through the surveillance system will be reviewed and used by CDC, the US Department of Education, the US Department of Justice, and other outside agencies and organizations.

OMB approval is requested for three years. The only cost to respondents will be time spent on the telephone responding to the survey.

Estimated Annualized Burden Hours
Type of respondent | Form name | Number of respondents | Number of responses per respondent | Average burden per response (in hours) | Total burden hours (in hours)
Law Enforcement Officer | Law Enforcement Interview Tool | 35 | 1 | 65/60 | 38
School Official | School Official Interview Tool | 35 | 1 | 65/60 | 38
Total |  |  |  |  | 76

Leroy A. Richardson,
Chief, Information Collection Review Office, Office of Scientific Integrity, Office of the Associate Director for Science, Office of the Director, Centers for Disease Control and Prevention.

[FR Doc. 2016-00276 Filed 1-8-16; 8:45 am]

BILLING CODE 4163-18-P